NATIONAL FOUNDATION ON THE ARTS AND THE HUMANITIES

National Endowment for the Arts; Arts Advisory Panel

Pursuant to section 10(a)(2) of the Federal Advisory Committee Act (Pub. L. 92-463), as amended, notice is hereby given that nine meetings of the Arts Advisory Panel to the National Council on the Arts will be held at the Nancy Hanks Center, 1100 Pennsylvania Avenue, NW., Washington, DC, 20506 as follows (ending times are approximate):

Learning in the Arts (application review): November 26-29, 2007 in Room 716. A portion of this meeting, from 2:45 p.m. to 3:45 p.m. on Wednesday, November 28th, will be open to the public for a policy discussion. The remainder of the meeting, from 9 a.m. to 5:30 p.m. on November 26th and 27th, from 9 a.m. to 2:45 p.m. and 3:45 p.m. to 5:30 p.m. on November 28th, and from 9 a.m. to 4:30 p.m. on November 29th, will be closed.

Media Arts/Arts on Radio and Television (application review): November 29-30, 2007 in Room 730. This meeting, from 9 a.m. to 5:30 p.m. on November 29th and from 9 a.m. to 3:30 p.m. on November 30th, will be closed.

Dance (application review): December 3-5, 2007 in Room 730. This meeting, from 9 a.m. to 6 p.m. on December 3rd and 4th and from 9 a.m. to 3:30 p.m. on December 5th, will be closed.

Folk and Traditional Arts (application review): December 3-5, 2007 in Room 716. A portion of this meeting, from 2 p.m. to 3 p.m. on Wednesday, December 5th, will be open to the public for a policy discussion. The remainder of the meeting, from 9 a.m. to 6:30 p.m. on December 3rd, from 9 a.m. to 6 p.m. on December 4th, and from 9 a.m. to 2 p.m. and 3 p.m. to 5:30 p.m. on December 5th, will be closed.

Local Arts Agencies (application review): December 6-7, 2007 in Room 730. This meeting, from 9a.m. to 5:30 p.m. on December 6th and from 9 a.m. to 1 p.m. on December 7th, will be closed.

Design (application review): December 7, 2007, in Room 714. This meeting, from 9 a.m. to 5:30 p.m., will be closed.

Presenting (application review): December 10-13, 2007 in Room 730. This meeting, from 9 a.m. to 5:30 p.m. on December 10th-12th and from 9 a.m. to 1:30 p.m. on December 13th, will be closed.

Museums (application review): December 11-13, 2007 in Room 716. This meeting, from 9 a.m. to 5:30 p.m. on December 11th and 12th and from 9 a.m. to 4:30 p.m. on December 13th, will be closed.

Literature (application review): December 12-14, 2007 in Room 714. A portion of this meeting, from 1 p.m. to 1:45 p.m. on Friday, December 14th, will be open to the public for a policy discussion. The remainder of the meeting, from 9 a.m. to 6 p.m. on December 12th and 13th and from 9 a.m. to 1 p.m. and 1:45 p.m. to 3 p.m. on December 14th, will be closed.

The closed portions of meetings are for the purpose of Panel review, discussion, evaluation, and recommendations on financial assistance under the National Foundation on the Arts and the Humanities Act of 1965, as amended, including information given in confidence to the agency. In accordance with the determination of the Chairman of February 21, 2007, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: November 1, 2007.
Kathy Plowitz-Worden,
Panel Coordinator.

[FR Doc. E7-21912 Filed 11-7-07; 8:45 am]

BILLING CODE 7537-01-P